DEPARTMENT OF LABOR

Employment and Training Administration

[TA-W-61,198]

L.A. Darling Company; Sun Prairie, WI; Notice of Termination of Investigation

Pursuant to Section 221 of the Trade Act of 1974, as amended, an investigation was initiated on March 27, 2007 in response to a petition filed by a company official on behalf of workers L.A. Darling Company, Sun Prairie, Wisconsin.

The petitioner has requested that the petition be withdrawn. Consequently, the investigation has been terminated.

Signed in Washington, DC, this 9th day of April, 2007.
Linda G. Poole,
Certifying Officer, Division of Trade Adjustment Assistance.

[FR Doc. E7-7621 Filed 4-20-07; 8:45 am]

BILLING CODE 4510-FN-P